ENVIRONMENTAL PROTECTION AGENCY

[ER-FRL-6627-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 567-7167.

An explanation of the ratings assigned to draft environmental impact statements (EISs) was published in FR dated May 18, 2001 (66 FR 27647).

Draft EISs

ERP No. D-AFS-J65355-UT Rating LO, Ray's Valley Road Realignment, Proposal to Reduce or Eliminate Adverse Impacts to Watershed and Aquatic Species and Provide Safer Driving Conditions, Uinta National Forest, Spanish Fork Ranger District, Utah County, UT.

Summary: EPA expressed lack of objections with the proposed action to improve water quality and riparian habitat by moving the road out of the riparian zone. Reclamation of the current travelway would reduce sedimentation of nearby streams by fifty percent.

ERP No. D-AFS-J65356-UT Rating EO2, Quitchupah Creek Road Project, Road Construction to provide Public Access from UT-10 to the Acord Lakes Road, Application for Right-of-Way Grant, Fishlake National Forest, Sevier County Special Services District (SSD), Sevier and Emery Counties, UT.

Summary: EPA expressed environmental objections over potential adverse impacts to water quality in an already impacted riparian area. The additional right-of-way for road with a primary use of hauling coal could also impact wetlands, wildlife and cultural resources and more information is needed to fully assess indirect and cumulative impacts.

ERP No. DS-FHW-F40346-MI Rating EC2, US-31 Petoskey Area Improvement Study, Congestion Reduction on US-31 in the City of Petoskey and Resort and Bear Creek Townships, Funding and US Army COE Section 404 Permit Issuance, Emmet County, MI.

Summary: EPA expressed environmental concerns with respect to the following issue areas: Effectiveness of alternatives in meeting transportation needs and study goals, impacts to wetlands and cedar swamps, secondary land use changes and cumulative impacts.

ERP No. DS-NOA-A64058-00 Rating EC2, Pelagic Sargassum Habitat Fishery Management Plan, Implementation, Updated Information concerning the Public's Opportunity to Comment on Proposed Actions, South Atlantic Region.

Summary: EPA expressed environmental concerns and requested additional information on strategies for protecting federally-managed fish and federally-protected sea turtles that use Sargassum as a nursery area.

Final EISs

ERP No. F-AFS-C02001-NY, Finger Lake National Forest, Oil and Gas Leasing, Exploration and Development, Approval and Authorization, Hector Ranger District, Seneca and Schuyler Counties, NY.

Summary: EPA expressed lack of objections with the selection of the no action alternative.

ERP No. F-AFS-E65056-FL, Ocklawaha River Restoration Project, Continued Occupation of Florida National Forest Lands, Portions of Kirkpatrick Dam, Rodman Reservoir and Eureka Lock and Dam in Conjunction with Partial Restoration of the Ocklawaha River, Operation and Maintenance, Special Use Permit Issuance and Implementation, Marion and Putnam Counties, FL.

Summary: No formal comment letter was sent to the preparing agency.

ERP No. F-AFS-L65363-OR, Anthony Lakes Mountain Resort Master Development Plan, Upgrading and Additional Development, Approval, Baker Ranger District, Wallowa-Whitman National Forest, Grant, Union and Baker Counties, OR.

Summary: No formal letter was sent to the preparing agency.

ERP No. F-FHW-H40167-MO, US 65 Improvements, County Road 65-122 South to Route EE Intersection south of Buffalo, Funding and US Army COE Section 404 Permit Issuance, Dallas County, MO.

Summary: The FEIS adequately supplements information needs and addresses the concerns that EPA had expressed in the review of the DEIS for this project, therefore EPA has no objections to the project as described in the FEIS.

ERP No. F-FHW-J40151-WY, Wyoming Forest Highway 23 Project, Louis Lake Road also known as Forest Development Road 300, Improvements from Bruce's Parking Lot to Worthen Meadow Road, Funding, NPDES Permits and US Army COE Section 404 Permit, Shoshone National Forest, Fremont County, WY.

Summary: No formal comment letter was sent to the preparing agency.

Dated: March 5, 2002.
Joseph C. Montgomery,
Director, NEPA Compliance Division, Office of Federal Activities.

[FR Doc. 02-5664 Filed 3-7-02; 8:45 am]

BILLING CODE 6560-50-U